CORPORATION FOR NATIONAL AND COMMUNITY SERVICE

Agency Information Collection Activities; Submission to the Office of Management and Budget for Review and Approval; Comment Request; Civic Engagement and Volunteering: Current Population Survey Supplement

AGENCY: Corporation for National and Community Service.

ACTION: Notice.

SUMMARY: The Corporation for National and Community Service (CNCS) has submitted a public information collection request (ICR) entitled The Civic Engagement and Volunteering Supplement for review and approval in accordance with the Paperwork Reduction Act.

DATES: Written comments must be submitted to the individual and office listed in the ADDRESSES section by October 5, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Mary Hyde, at 202-606-6834 or email to mhyde@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 1, 2020 at Vol. 85 No. 127 FR 39537 39538. This comment period ended August 31, 2020. No public comments were received from this Notice.

Description: This information collection will be used to generate civic health reports at the National, State, and Metropolitan Statistical Area (MSA) levels and to disseminate these data to various stakeholders including state and local government offices, researchers, students and civic groups for strategic planning, grant writing purposes and research.

Title of Collection: Civic Engagement and Volunteering Supplement.

OMB Control Number: 3045-0139.

Type of Review: Renewal.

Respondents/Affected Public: U.S. Residents 16 years of age and older.

Total Estimated Number of Annual Responses: Approximately U.S. 60,000 residents.

Total Estimated Number of Annual Burden Hours: 6,670.

Abstract: CNCS has partnered with the U.S. Census to collect data and produced annual volunteering reports since 2002. CNCS is also mandated by the Serve America Act (2009) to produce an annual Civic health assessment in partnership with the National Conference on Citizenship. The proposed survey will be the only source of nationally representative data on the number of Americans who are active in their communities, through volunteering, social interactions, political activities and civic behaviors. The purpose of collecting data on civic engagement and volunteering is to provide scholars, government officials and policymakers with official government measurement on civic behaviors in the United States.

Dated: August 28, 2020.
Mary Hyde,
Director, Office of Research and Evaluation.

[FR Doc. 2020-19589 Filed 9-3-20; 8:45 am]

BILLING CODE 6050-28-P